FEDERAL COMMUNICATIONS COMMISSION

Notice of Public Information Collection(s) Being Reviewed by the Federal Communications Commission, Comments Requested

November 26, 2010.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before February 1, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via Internet at Nicholas_A._Fraser@omb.eop.gov and to the Federal Communications Commission. To submit your PRA comments by email send them to: PRA@fcc.gov.

FOR FURTHER INFORMATION CONTACT: For additional information, contact Judith B. Herman at 202-418-0214 or via the Internet at Judith-B.Herman@fcc.gov.

SUPPLEMENTARY INFORMATION: OMB Control Number: 3060-0823.

Title: Part 64, Pay Telephone Reclassification.

Form No.: N/A.

Type of Review: Extension of a currently approved collection.

Respondents: Business or other for-profit.

Number of Respondents: 400 respondents; 16,820 responses.

Estimated Time per Response: 2.66 hours (average).

Frequency of Response: On occasion, quarterly and monthly reporting requirements and third party disclosure requirement.

Obligation to Respond: Mandatory. Statutory authority for this information collection is contained in the 47 U.S.C. 151, 154, 201-205, 218, 226, and 276.

Total Annual Burden: 44,700 hours.

Total Annual Cost: $652,000.

Privacy Act Impact Assessment: N/A.

Nature and Extent of Confidentiality: Confidentiality concerns are not relevant to these types of disclosures. The Commission is not requesting carriers or providers to submit confidential information to the Commission. If the Commission requests that carriers or providers submit information which they believe is confidential, the carriers or providers may request confidential treatment of such information under 47 CFR 0.459 of the Commission's rules.

Needs and Uses: The Commission will submit this expiring information collection to the Office of Management and Budget (OMB) after this comment period to obtain the full, three year clearance from them. The Commission is not changing any of the reporting and/or third party disclosure requirements. The Commission is reporting no change in the hourly burden estimates. However, we are reporting a $32,000 increase in annual costs. This adjustment is due to an increase in the tariff filing fee from $775 to $815.

The Commission adopted rules and policies governing the payphone industry to implement section 276 of the Telecommunications Act of 1996. Those rules and policies in part established a plan to ensure fair compensation for “each and every completed intrastate and interstate call using [a] payphone.” Specifically, the Commission established a plan to ensure that payphone service providers (PSPs) were compensated for certain non-coin calls originated from their payphones.

As part of this plan, the Commission required that by October 7, 1997, Local exchange carriers were to provide payphone-specific coding digits to PSPs, and that PSPs were to provide those digits from their payphones to interexchange carriers (IXCs).

The provision of payphone-specific coding digits was a prerequisite to payphone per-call compensation payments by IXCs to PSPs for subscriber 800 and access code calls. The Commission's Wireline Competition Bureau subsequently provided a waiver until March 9, 1998, for those payphones for which the necessary coding digits were not provided to identify calls. The Bureau also on that date clarified the requirements established in the Payphones Orders for the provision of payphone-specific coding digits and for tariffs that LECs must file pursuant to the Payphone Orders.

The Bureau also granted a waiver of Part 69 of the Commission's rules so that LECs can establish rate elements to recover the costs of implementing FLEX-ANI (a type of switch software) to provide payphone specific coding digits for per-call compensation. The Commission has identified five specific information collections under this OMB control number.

The information disclosure rules and policies governing the payphone industry to implement section 276 of the Act will ensure the payment of per-call compensation by implementing a method for LECs to provide information to IXCs to identify calls. FLEX ANI is the most flexible method, and has the added capability of providing a number of additional coding digits, in real-time, that can uniquely identify a call as coming from a payphone. FLEX ANI is, therefore, the best method.

OMB Control Number: 3060-0057.

Title: Application for Equipment Authorization.

Form No.: FCC Form 731.

Type of Review: Extension of a currently approved collection.

Respondents: Business or other for-profit.

Number of Respondents: 600 respondents; 10,000 responses.

Estimated Time per Response: 25 hours.

Frequency of Response: On occasion reporting requirement and third party disclosure requirement.

Obligation to Respond: Required to obtain or retain benefits. Statutory authority for this information collection is contained in the 47 U.S.C. 154(i), 301, 302, 303(e), 303(f), and 303(r).

Total Annual Burden: 250,000 hours.

Total Annual Cost: $11,017,500.

Privacy Act Impact Assessment: N/A.

Nature and Extent of Confidentiality: Minimal exemption from the Freedom of Information Act (5 U.S.C. 552(b)(4) and FCC Rules under 47 CFR 0.457(d)) is granted for trade secrets which may be submitted as attachments to the application form FCC Form 731. No other assurances of confidentiality are provided to respondents.

Needs and Uses: The Commission will submit this expiring information collection to the Office of Management and Budget (OMB) after this comment period to obtain the full, three year clearance from them. The Commission is not changing any of the reporting and/or third party disclosure requirements. The Commission is reporting no change in their previous burden estimates.

Commission Rules require that manufacturers of radio frequency (RF) equipment file FCC Form 731 to obtain approval prior to marketing their equipment: (a) The RF equipment is regulated under certain rule sections of 47 CFR part 15 and part 18; (b) manufacturers may then market their RF equipment based on a showing of compliance with technical standards established in the FCC Rules for each type of equipment or device operated under the applicable FCC Rule part; and (c) in addition, rules governing certain RF equipment operating in the licensed services also require equipment authorization as established in the procedural FCC Rules in 47 CFR part 2. The RF equipment manufacturers comply with the information collection requirements (noted above) by: (a) Filing FCC Form 731 electronically with the Commission, or (b) submitting the information to a Telecommunications Certification Body (TCB), which acts on behalf of the FCC to issue grants of certification. The TCBs have flexibility in the format in which they require the collection of information: (a) TCBs may require applicants to submit the required information in FCC Form 731 format or in another format selected by the TCB, but (b) whatever the information collection method, the information required is governed by the procedural rules in 47 CFR part 2 and a showing of compliance with the FCC technical standards for the specific type of equipment. RF manufacturer applicants for equipment certification may also request “expedited authorization” to market their equipment by: (a) Choosing to pay the fee levied by a TCB, and (b) submitting their request to a TCB in order for expedited authorization to market. The TCB processes the RF equipment manufacturer's application as follows: (a) The TCB receives and reviews the RF manufacturer's information submission/application; and (b) the TCB enters the information into the FCC Equipment Authorization System database using an interface that provides the TCB with the tools to issue a standardized Grant of Equipment Authorization. Whichever method the RF manufacturers choose to submit their information—via either the FCC on FCC Form 731 or the TCB, FCC Rules require that applicants supply the following data: (a) Demographic information including Grantee name and address, contact information, etc; (b) information specific to the equipment including FCC Identifier, equipment class, technical specifications, etc; and (c) attachments that demonstrate compliance with FCC Rules that may include any combination of the following based on the applicable Rule parts for the equipment for which authorization is requested: (1) Identification of equipment (47 CFR 2.925); (2) attestation statements that may be required for specific equipments; (3) external photos of the equipment for which authorization is requested; (4) block diagram of the device; (5) schematics; (6) test report;

○ Test setup photos;

○ Users Manual;

○ Internal Photos;

○ Parts List/Tune Up Information;

○ RF Exposure Information;

○ Operational Description;

○ Cover Letters;

○ Software Defined Radio/Cognitive Radio Files

In general, an applicant's submission is as follows: (a) FCC Form 731 includes approximately two pages covering the demographic and equipment identification information; and (b) applicants must supply additional documentation and other information, as described above, demonstrating conformance with FCC Rules, which may range from 100-500 pages. The supplemental information is essential to control potential interference to radio communications, which the FCC may use, as is necessary, to investigate complaints of harmful interference. In response to new technologies and in allocating spectrum, the Commission may establish new technical operating standards: (a) RF equipment manufacturers must meet the new standards to receive an equipment authorization, and (b) RF equipment manufacturers must still comply with the Commission's requirements in FCC Form 731 and demonstrate compliance as required by 47 CFR part 2 of FCC Rules. Thus, this information collection applies to a variety of RF equipment: (a) That is currently manufactured, (b) that may be manufactured in the future, and (c) that operates under varying technical standards. On July 8, 2004, the Commission adopted a Report and Order, Modification of Parts 2 and 15 of the Commission's Rules for Unlicensed Devices and Equipment Approval, ET Docket No. 03-201, FCC 04-165. The change requires that all paper filings required in 47 CFR Sections 2.913(c), 2.926(c), 2.929(c), and 2.929(d) of the rules are outdated and now must be filed electronically via the Internet on FCC Form 731. The Commission believes that electronic filing speeds up application processing and supports the Commission in further streamlining to reduce cost and increase efficiency. Information on the procedures for electronically filing equipment authorization applications can be obtained from the Commission's rules, and from the Internet at: https://gullfoss2.fcc.gov/prod/oet/cf/eas/index.cfm. Designated Telecommunications Certification Body (TCB).

OMB Control Number: 3060-XXXX.

Title: Wireless E911 Location Accuracy Requirements.

Form No.: N/A.

Type of Review: New collection.

Respondents: Business or other for-profit and state, local or tribal government.

Number of Respondents: 6,000 respondents; 13,700 responses.

Estimated Time per Response: 11.85 hours (average).

Frequency of Response: On occasion reporting requirement and third party disclosure requirement.

Obligation to Respond: Mandatory. Statutory authority for this information collection is contained in the 47 U.S.C. 151, 154, and 332.

Total Annual Burden: 71,100 hours.

Total Annual Cost: N/A.

Privacy Act Impact Assessment: N/A.

Nature and Extent of Confidentiality: No questions of a confidential nature are asked.

Needs and Uses: The Commission will submit this new information collection to the Office of Management and Budget (OMB) after this comment period to obtain the full, three-year clearance from them.

The Commission's Second Report and Order (FCC 10-176, PS Docket No. 07-114) on September 23, 2010, the Commission released a Second Report and Order in PS Docket No. 07-114, FCC 10-176. With the Second Report and Order, the Commission adopts rules, amending requirements for wireless licensees subject to delivering emergency calls according to location accuracy standards for Enhanced 911 service, to satisfy these standards at either a county-based or Public Safety Answering Point (PSAP)-based geographic level. Specifically, the rules adopted require wireless carriers to take steps to provide more specific automatic location information in connection with 911 emergency calls to Public Safety Answering Points (PSAPs) in areas where they have not done so in the past. Further, the rules adopted provide a framework with interim benchmarks for wireless licensees to achieve the amended requirements, thereby ensuring an appropriate and consistent compliance methodology with respect to location accuracy standards.

The Second Report and Order provides, however, that handset-based wireless carriers may exclude up to 15 percent of the counties or PSAP areas they serve due to heavy forestation that limits handset-based technology accuracy in those counties or areas. The Commission found that permitting this exclusion properly but narrowly accounts for the known technical limitations of handset-based location accuracy technologies, while ensuring that the public safety community and the public at large are sufficiently informed of these limitations. The Second Report and Order also provides a similar exclusion for network-based carriers that permits them to exclude particular counties, or portions of counties, where triangulation of the geographical position of a 911 emergency call is not technically possible, such as locations where at least three cell sites are not sufficiently visible to a handset.

The Second Report and Order requires both handset-based and network based carriers to file a list of the specific counties or portions of counties where they are utilizing their respective exclusions within 90 days following approval from the Office of Management and Budget for the related information collection. The lists must be submitted electronically into PS Docket No. 07-114, and copies must be sent to the National Emergency Number Association, the Association of Public-Safety Communications Officials-International, and the National Association of State 9-1-1 Administrators. For network-based carriers, the exclusion will sunset on [8 years after effective date] of the rule providing for the exclusion.

The rules adopted by the Second Report and Order also require that wireless carriers provide confidence and uncertainty data on a per call basis to PSAPs. To ensure that confidence and uncertainty data is made available to requesting PSAPs, the adopted rules also require entities responsible for transporting this data between the wireless carriers and PSAPs, including LECs, CLECs, owners of E911 networks, and emergency service providers (collectively, System Service Providers (SSPs)), to implement any modifications to enable the transmission of confidence and uncertainty data provided by wireless carriers to the requesting PSAPs.

In view of the amended location accuracy requirements and the timeframes and benchmarks for carriers to comply with them, the Commission recognized that the waiver process is suitable to address individual or unique problems, where the Commission can analyze the particular circumstances and the potential impact to public safety. Thus, the Commission recognized that wireless carriers might file waiver requests, therefore constituting a collection and reporting requirement. The Commission noted that financial considerations, among others, will be taken into account should a service provider request waiver relief. Additionally, an SSP that does not pass confidence and uncertainty data to PSAPs must demonstrate in a request for waiver relief that it cannot pass this data to the PSAPs due to technical infeasibility.

The adopted rules strengthen and improve the ability of Public Safety Answering Points (PSAPs, or 9-1-1 call centers) to quickly locate wireless 9-1-1 callers and dispatch emergency responders to assist them during emergencies. As a result, emergency responders will be able to reach the site of an emergency more quickly and efficiently.

The new rules will generate new collection and reporting requirements as discussed below:

47 CFR 20.18(h)(1)(F) permits network-based wireless carriers to exclude from compliance particular counties, or portions of counties, where triangulation is not technically possible, such as locations where at least three cell sites are not sufficiently visible to a handset. However, carriers must file a list of the specific counties or portions of counties where they are utilizing this exclusion within 90 days following approval from the Office of Management and Budget for the related information collection. This list must be submitted electronically into PS Docket No. 07-114, and copies must be sent to the National Emergency Number Association, the Association of Public-Safety Communications Officials-International, and the National Association of State 9-1-1 Administrators. Further, carriers must submit in the same manner any changes to their exclusion lists within thirty days of discovering such changes. This exclusion will sunset on [8 years after effective date].

47 CFR 20.18(h)(2)(C) requires that handset-based wireless carriers file a list of the specific counties or PSAP service areas where they are utilizing an exclusion to exclude 15 percent of counties or PSAP service areas from the 150 meter requirement based upon heavy forestation that limits handset-based technology accuracy in those counties or PSAP service areas. Such carriers must file the list within 90 days following approval from the Office of Management and Budget for the related information collection. This list must be submitted electronically into PS Docket No. 07-114, and copies must be sent to the National Emergency Number Association, the Association of Public-Safety Communications Officials-International, and the National Association of State 9-1-1 Administrators. Further, carriers must submit in the same manner any changes to their exclusion lists within thirty days of discovering such changes.

47 CFR 20.18(h)(3) requires that two years after [effective date of the Order], all carriers subject to this section provide confidence and uncertainty data on a per-call basis upon the request of a PSAP. Once a carrier has established baseline confidence and uncertainty levels in a county or PSAP service area, ongoing accuracy shall be monitored based on the trending of uncertainty data and additional testing shall not be required. All entities responsible for transporting confidence and uncertainty between wireless carriers and PSAPs, including LECs, CLECs, owners of E911 networks, and emergency service providers (collectively, System Service Providers (SSPs)) must implement any modifications that will enable the transmission of confidence and uncertainty data provided by wireless carriers to the requesting PSAP. If an SSP does not pass confidence and uncertainty data to PSAPs, the SSP has the burden of proving that it is technically infeasible for it to provide such data.

Federal Communications Commission.
Marlene H. Dortch,
Secretary.

[FR Doc. 2010-30410 Filed 12-2-10; 8:45 am]

BILLING CODE 6712-01-P